ENVIRONMENTAL PROTECTION AGENCY

[FRL-7830-6]

Florida Petroleum Reprocessors Superfund Site; Notice of Proposed Settlement

AGENCY: Environmental Protection Agency.

ACTION: Notice of proposed de minimis settlement.

SUMMARY: Under Section 122(g)(4) of the Comprehensive Environmental Response Compensation and Liability Act (CERCLA), the Environmental Protection Agency has offered a de minimis settlement at the Florida Petroleum Reprocessors Superfund Site (Site) located in Davie, Florida. EPA will consider public comments November 26, 2004. EPA may withdraw from or modify the proposed settlement should such comments disclose facts or considerations which indicate the proposed settlement is inappropriate, improper, or inadequate. Copies of the proposed settlement are available from: Ms. Paula V. Batchelor, U.S. Environmental Protection Agency, Region 4, Superfund Enforcement and Information Management Branch, Waste Management Division, 61 Forsyth St., SW., Atlanta, Georgia 30303, (404) 562-8887, email: batchelor.paula@epa.gov.

Written or email comments may be submitted to Paula V. Batchelor at the above address within 30 days of the date of publication.

Dated: October 13, 2004.
Anita Davis,
Acting Chief, Superfund Enforcement Information & Management Branch, Waste Management Division.

[FR Doc. 04-24042 Filed 10-26-04; 8:45 am]

BILLING CODE 6560-50-P